DEPARTMENT OF THE INTERIOR

National Park Service

Notice of Availability of the Final Environmental Impact Statement for Disposition of the Former Bureau of Mines Twin Cities Research Center Main Campus, Minnesota

SUMMARY: Pursuant to Section 102(2)(C) of the National Environmental Policy Act of 1969, 42 U.S.C. 4332(2)(c), the National Park Service (NPS) announces the availability of a final Environmental Impact Statement (EIS) for disposition of the former Bureau of Mines Twin Cities Research Center Main Campus (Center), Hennepin County, Minnesota.

DATES: The final EIS will remain available for public review for 30 days following the publishing of the notice of availability in the Federal Register by the U.S. Environmental Protection Agency.

ADDRESSES: Copies of the final EIS are available from the Superintendent, Mississippi National River and Recreation Area, Suite 105, 111 Kellogg Boulevard East, St. Paul, Minnesota 55101; telephone 651-290-4160. You may also view the document via the Internet through the NPS Planning, Environment, and Public Comment Web site (http://parkplanning.nps.gov); simply click on the link to Mississippi National River and Recreation Area.

Supplementary Information: The NPS prepared a draft EIS for the Center. The draft was made available for public review for 60 days (August 25-October 24, 2007) during which time the NPS distributed over 275 copies of the draft. The draft was also made available at the park offices, on the Internet, and at area libraries. Based on several requests for greater time to review and comment on the document, the NPS extended the comment period 30 days to November 27, 2007.

By the close of the official comment period, a total of 509 comments on the draft EIS were received via oral comments, written letters, e-mail, and through the NPS Planning, Environment, and Public Comment system. Public and Agency comments addressed future management authorities, impacts to cultural and historical resources, interpretation of the Center's history, and restoration of the Center to more natural conditions, as well as pointing out factual errors and shortcomings of the draft EIS.

The Notice of Availability for the draft EIS also solicited written proposals for the future use of the Center property. Public Law 104-134 included provisions which would allow the transfer of the Center property to a local, State, or Tribal government or university entity. At the close of the comment period, six written proposals were received from qualified Agencies for the transfer of the Center property.

Finally, the draft EIS did not identify the preferred alternative because at the time of its release, the Department of the Interior had not indicated a preference. The final EIS identifies the preferred alternative as alternative D. Under alternative D, the Federal Government would manage and bear the costs for modification of all or part of the land, structures, or other improvements prior to conveyance or retention of the Center.

Following completion of the modifications, the property would be disposed through transfer to a university or nonfederal government entity without restrictions (alternative B), transfer to a university or nonfederal government entity with restrictions (alternative C), or retention by the Federal Government for use such as those described under the three conceptual land-use scenarios. Under the preferred alternative, the preferred land use scenario is open space/park.

FOR FURTHER INFORMATION: Contact Superintendent Paul Labovitz, Mississippi National River and Recreation Area, at the address or telephone number above.

Dated: October 21, 2009.
David N. Given,
Acting Regional Director, Midwest Region.

[FR Doc. E9-30356 Filed 12-21-09; 8:45 am]

BILLING CODE 4312-98-P